DEPARTMENT OF THE INTERIOR

National Park Service

[NPS-WASO-NAGPRA-NPS0025535; PPWOCRADN0-PCU00RP14.R50000]

Notice of Inventory Completion: Arkansas Highway and Transportation Department, Little Rock, AR; Correction

AGENCY: National Park Service, Interior.

ACTION: Notice; correction.

SUMMARY: The Arkansas State Highway and Transportation Department has corrected an inventory of human remains and associated funerary objects published in a Notice of Inventory Completion in the Federal Register on August 21, 2008. This notice corrects the minimum number of individuals and the number of associated funerary objects. Lineal descendants or representatives of any Indian Tribe or Native Hawaiian organization not identified in this notice that wish to request transfer of control of these human remains should submit a written request to the Arkansas State Highway and Transportation Department. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Arkansas State Highway and Transportation Department at the address in this notice by July 18, 2018.

ADDRESSES: Kristina Boykin, Arkansas State Highway and Transportation Department, P.O. Box 2261, Little Rock, AR 72203, telephone (501) 569-2079, email Kristina.Boykin@ahtd.ar.gov.

SUPPLEMENTARY INFORMATION: Notice is here given in accordance with the Native American Graves Protection and Repatriation Act (NAGPRA), 25 U.S.C. 3003, of the correction of an inventory of human remains and associated funerary objects under the control of the Arkansas State Highway and Transportation Department, Little Rock, AR. The human remains and associated funerary objects were removed from Poinsett County, AR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (73 FR 49483, August 21, 2008). The additional individuals and funerary objects were reported to the Arkansas State Highway and Transportation Department by the University of Missouri, American Archeology Division. Transfer of control of the items in this correction notice has not occurred.

Correction

In the Federal Register (73 FR 499483, August, 21, 2008), column 1, paragraph 4 is corrected by substituting the following paragraph:

In 1988, human remains representing a minimum of 16 individuals were recovered from the Priestly site (3PO490) in Poinsett County, AR, by the Center for Archaeological Research, Southwest Missouri State University, Springfield, MO. The human remains were sent to the University of Missouri, Columbia for analysis. The human remains were transferred to the Arkansas Highway and Transportation Department in 2004 and 2018 and then to the Arkansas Archeological Survey for curation in 2008 and 2018. No known individuals were identified. The 57 associated funerary objects are two Landers points, one Gary point, one point, 42 plain shell-tempered body sherds, 10 sherds, and one plain shell-tempered sherd from the rim of a bowl.

In the Federal Register (73 FR 499483, August, 21, 2008), column 2, paragraph 7, sentence 1 is corrected by substituting the following sentence:

Officials of the Arkansas Highway and Transportation have determined that, pursuant to 25 U.S.C. 2001 (9-10), the human remains described above represent the physical remains of at least 16 individuals of Native American ancestry.

In the Federal Register (73 FR 499483, August, 21, 2008), column 2, paragraph 7, sentence 2 is corrected by substituting the following sentence:

Officials of the Arkansas Highway and Transportation also have determined that, pursuant to 25 U.S.C. 3001 (3)(A), the 57 objects described above are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Kristina Boykin, Arkansas State Highway and Transportation Department, P.O. Box 2261, Little Rock, AR 72203, telephone (501) 569-2079, email Kristina.Boykin@ahtd.ar.gov, by July 18, 2018. After that date, if no additional requestors have come forward,, transfer of control of the human remains and associated funerary objects to the Quapaw Tribe of Indians may proceed.

The Arkansas State Highway and Transportation Department is responsible for notifying the Quapaw Tribe of Indians that this notice has been published.

Dated: May 3, 2018.
Melanie O'Brien,
Manager, National NAGPRA Program.

[FR Doc. 2018-13035 Filed 6-15-18; 8:45 am]

BILLING CODE 4312-52-P